DEPARTMENT OF HOUSING AND URBAN DEVELOPMENT

[Docket No. FR-5685-N-04]

60 Day Notice of Proposed Extension of a Currently Approved Information Collection: Housing Discrimination Information Form HUD-903.1, HUD 903.1A, HUD-903-1B, HUD-903.1F, HUD-903.1KOR, HUD-903.1C, HUD-903.1CAM, HUD-903.1RUS, 903-1_Somali

AGENCY: Office of the Assistant Secretary for Fair Housing and Equal Opportunity, HUD.

ACTION: Notice.

SUMMARY: HUD is seeking approval from the Office of Management and Budget (OMB) for an extension of the currently approved information collection for Housing Discrimination Information Forms HUD 903.1, HUD 903.1A, HUD-903-1B, HUD-903.1F, HUD-903.1KOR, HUD-903.1C, HUD-903.1CAM, HUD-903.1RUS, and HUD-903-1_Somali. In accordance with the Paperwork Reduction Act, HUD is requesting comments from all interested parties on the proposed extension of this information collection. The purpose of this Notice is to allow for 60 days of public comment.

DATES: Comments Due Date: January 7, 2014.

ADDRESSES: Interested persons are invited to submit comments regarding this proposal. Comments should refer to the proposal by name and/or OMB Control Number, and should be sent to Colette Pollard, Reports Management Officer, QDAM, U.S. Department of Housing and Urban Development, 451 7th Street SW., Room 4186, Washington, DC, 20410-2000; telephone number (202) 402-3400 (this is not a toll-free number), or email at Colette.Pollard@hud.gov for a copy of the proposed forms or other available information. Persons with hearing or speech impairments may access this number through TTY by calling the toll-free Federal Information Relay Service at1-800-877-8339.

FOR FURTHER INFORMATION CONTACT: Turner Russell, U.S. Department of Housing and Urban Development, 451 7th Street SW., Room 5214, Washington, DC, 20410-2000; telephone number (202) 402-6995 (this is not a toll-free number). Persons with hearing or speech impairments may access this number through TTY by calling the toll-free Federal Information Relay Service at 1-800-877-8339.

SUPPLEMENTARY INFORMATION: HUD is proposing this extension of a currently approved information collection to the OMB for review, as required by the Paperwork Reduction Act of 1995 [44 U.S.C. Chapter 35, as amended].

A. Overview of Information Collection

This Notice is soliciting comments from members of the public and affected agencies concerning the proposed extension of the collection of information regarding alleged discriminatory housing practices under the Fair Housing Act [42 U.S.C. 3601 et seq.]. The Fair Housing Act prohibits discrimination in the sale, rental, occupancy, advertising, and insuring of residential dwellings; and in residential real estate-related transactions; and in the provision of brokerage services, based on race, color, religion, sex, handicap [disability], familial status, or national origin.

Any person who claims to have been injured by a discriminatory housing practice, or who believes that he or she will be injured by a discriminatory housing practice that is about to occur, may file a complaint with HUD not later than one year after the alleged discriminatory housing practice occurred or terminated. Form HUD-903.1 was developed in order to promote consistency in the documents that, by statute, must be provided to persons against whom complaints are filed, and for the convenience of the general public. Section 103.25 of HUD's Fair Housing Act regulation describes the information that must be included in each complaint filed with HUD. For purposes of meeting the Act's one-year time limitation for filing complaints with HUD, complaints need not be initially submitted on the Form that HUD provides. Housing Discrimination Information Form HUD-903.1 (English language), HUD-903.1A (Spanish language), HUD-903-1B (Chinese language), HUD-903.1F (Vietnamese language), HUD-903.1KOR (Korean language), HUD-903.1C (Arabic language), HUD-903.1CAM (Cambodian language), HUD-903.1RUS (Russian language), and HUD-903-1_(Somali language) may be submitted to HUD by mail, in person, by facsimile, or via the Internet to HUD's Office of Fair Housing and Equal Opportunity (FHEO). FHEO staff uses the information provided on the Form to verify HUD's authority to investigate the aggrieved person's allegations under the Fair Housing Act.

Title of Information Collection: Housing Discrimination Information Form.

OMB Control Number: 2529-0011.

Type of Request: Extension of a currently approved information collection.

Form Number: HUD-903.1.

Description of the need for the information and proposed use: HUD uses the Housing Discrimination Information Form HUD-903.1 (Form) to collect pertinent information from persons wishing to file housing discrimination complaints with HUD under the Fair Housing Act. The Fair Housing Act makes it unlawful to discriminate in the sale, rental, occupancy, advertising, or insuring of residential dwellings; or to discriminate in residential real estate-related transactions; or in the provision of brokerage services, based on race, color, religion, sex, handicap [disability], familial status, or national origin.

Any person who claims to have been injured by a discriminatory housing practice, or any person who believes that he or she will be injured by a discriminatory housing practice that is about to occur, may file a complaint with HUD not later than one year after the alleged discriminatory housing practice occurs or terminates. The Form promotes consistency in the collection of information necessary to contact persons who file housing discrimination complaints with HUD. It also aids in the collection of information necessary for initial assessments of HUD's authority to investigate alleged discriminatory housing practices under the Fair Housing Act.

This information may subsequently be provided to persons against whom complaints are filed [“respondents”], as required under section 810(a)(1)(B)(ii) of the Fair Housing Act.

Agency form number: Form HUD-903.1 (English), Form HUD-903.1A (Spanish), Form HUD-903-1B (Chinese), Form HUD-903.1F (Vietnamese), Form HUD-903.1K (Korean), Form HUD-903.1AR (Arabic), Form HUD-903.1CAM (Cambodian), Form HUD-903.1R (Russian), and Form HUD-903-1_(Somali).

Members of affected public: Individuals or households; businesses or other for-profit, not-for-profit institutions; State, Local, or Tribal Governments.

Estimation of the total number of hours needed to prepare the information collection, including the number of respondents, frequency of response, and hours of responses: During FY 2012, HUD staff received approximately 15,688 information submissions from persons wishing to file housing discrimination complaints with HUD. Telephone contacts accounted for 3,694 of this total. The remaining 11,994 complaint submissions were transmitted to HUD by mail, in-person, and via the Internet. HUD estimates that an aggrieved person requires approximately 45 minutes in which to complete this Form. The Form is completed once by each aggrieved person. Therefore, the total number of annual burden hours for this Form is 8,996 hours.

11,994 x 1 (frequency) x .45 minutes (.75 hours) = 8,996 hours.

Annualized cost burden to complainants: HUD does not provide postage-paid mailers for this information collection. Accordingly, persons who choose to submit this Form to HUD by mail must pay the prevailing cost of First Class Postage. As of the date of this Notice, the annualized cost burden per person, based on a one-time submission of this Form to HUD via First Class Postage, is Forty-Six Cents ($0.46) per person. During FY 2012, FHEO staff received approximately 4,875 submissions of potential complaint information by mail. Based on this number, HUD estimates that the total annualized cost burden for aggrieved persons who submit this Form to HUD by mail is $2,242.50. Aggrieved persons also may submit this Form to HUD in person, by facsimile, or electronically via the Internet.

Status of the proposed information collection: Renewal of a currently approved collection of pertinent information from persons wishing to file Fair Housing Act complaints with HUD.

B. Solicitation of Public Comment

This Notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

Authority: Section 3507 of the Paperwork Reduction Act of 1995, 44 U.S.C. Chapter 35, as amended.

Dated: October 31, 2013.
Lynn Grosso,
Director, Office of Enforcement, FHEO.

[FR Doc. 2013-26871 Filed 11-7-13; 8:45 am]

BILLING CODE 4210-67-P